DEPARTMENT OF COMMERCE

Foreign-Trade Zones Board

[Docket 10-2008]

Foreign-Trade Zone 64 - Jacksonville, Florida, Application for Expansion

An application has been submitted to the Foreign-Trade Zones (FTZ) Board (the Board) by the Jacksonville Port Authority, grantee of FTZ 64, requesting authority to expand its zone in the Jacksonville, Florida, area, adjacent to the Jacksonville, Florida CBP port of entry. The application was submitted pursuant to the provisions of the Foreign-Trade Zones Act, as amended (19 U.S.C. 81a-81u), and the regulations of the Board (15 CFR Part 400). It was formally filed on February 21, 2008.

FTZ 64 was approved on December 29, 1980 (Board Order 170, 46 FR 1330, 01/06/81). The general-purpose zone currently consists of the following sites: Site 1 (67 acres) -- within the Jacksonville International Airport at Pecan Park and Terrell Roads; Temporary Site 1a (75 acres) located at One Imeson Park Boulevard, within the central western portion of the Imeson International Park (expires 12/31/08) ; Site 2 (43 acres) warehouse facility located at 2201 North Ellis Road; Site 3 (856 acres) JPA Blount Island Terminal Complex and 133-acre JPA Talleyrand Docks and Terminal Facility, at 2701 Talleyrand Avenue; Site 4 (200 acres) within the International Tradeport Complex on Airport Road; and, Site 5 (4 acres) located at 1501 Dennis Street.

The applicant is requesting authority to include Temporary Site 1a on a permanent basis and to expand the zone to an additional site in the Jacksonville, Florida area: Proposed Site 7 ( 800,000 sq. ft., 44 acres) located at Westlake Industrial Park at 9767 Pritchard Road. The site is owned by Johnson Development Associates, Inc. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is May 6, 2008. Rebuttal comments in response to material submitted during the foregoing period may be submitted during the subsequent 15-day period (May 21, 2008.

A copy of the application and accompanying exhibits will be available for public inspection at each of the following locations: U.S. Export Assistance Center, 3 Independent Drive, Jacksonville, Florida 32202-5004; and the Office of the Executive Secretary, Foreign-Trade Zones Board, Room 2111, U.S. Department of Commerce, 1401 Constitution Avenue, NW, Washington, DC 20230.

For further information, contact Kathleen Boyce at 202-482-1346 or Kathleen_Boyce@ita.doc.gov.

Dated: February 21, 2008.
Andrew McGilvray,
Executive Secretary.

[FR Doc. E8-4553 Filed 3-6-08; 8:45 am]

BILLING CODE 3510-DS-S